DEPARTMENT OF HEALTH AND HUMAN SERVICES

National Institutes of Health

Statement of Organization, Functions, and Delegations of Authority

Part N, National Institutes of Health, of the Statement of Organization, Functions, and Delegations of Authority for the Department of Health and Human Services (HHS) (40 FR 22859, May 27, 1975, as amended most recently at 69 FR 64081, November 3, 2004, and redesignated from Part HN as Part N at 60 FR 56606, November 9, 1995), is amended as set forth below to reflect the reorganization of the National Human Genome Research Institute, Division of Intramural Research, by establishing (1) the Molecular Neurogenetics Section in the Medical Genetics Branch and (2) the Vascular Biology Section in the Genome Technology Branch. The sections are transferring from, respectively, the National Heart, Lung, and Blood Institute and the National Institute of Mental Health.

Section N-B, Organization and Functions, under the heading National Human Genome Research Institute (N4, formerly HN4), Division of Intramural Research (N45, formerly HN45) is amended as follows:

(1) In the Genome Technology Branch (N455, formerly HN455), immediately after the paragraph on Genomic Functional Analysis Section (N4556, formerly HN 4556), insert the following:

Vascular Biology Section (N4557, formerly HN 4557). Conducts clinical and laboratory investigations in the molecular mechanisms of cardiovascular disease including vascular cell biology, gene therapy, and cell cycle regulation of vascular cells.

(2) In the Medical Genetics Branch (N456, formerly HN456), immediately after the paragraph on Vertebrate Embryology Section (N4567, formerly HN4567), insert the following:

Molecular Neurogenetics Section (N4568, formerly HN 4568). (1) Conducts clinical and basic research into the factors contributing to the phenotypic variation observed in monogenic diseases, using Gaucher disease as a prototype disorder; (2) investigates the relationship between Gaucher disease and parkinsonism; and (3) explores new therapeutic approaches for Gaucher disease.

Delegations of Authority

All delegations and redelegations of authority to officers and employees of NIH that were in effect immediately prior to the effective date of this amendment and are consistent with this amendment shall continue in effect, pending further redelegation.

Dated: February 8, 2006.
Elias A. Zerhouni,
Director, National Institutes of Health.

[FR Doc. 06-1642 Filed 2-21-06; 8:45 am]

BILLING CODE 4140-01-M